SMALL BUSINESS ADMINISTRATION

Region X Regulatory Fairness Board; Public Hearing

The Small Business Administration Region X Regulatory Fairness Board and the SBA Office of the National Ombudsman, will hold a Public Hearing on Tuesday, April 2, 2002 at 9:30 a.m. at the SBA District Office, Business Enterprise Center, 1200 Sixth Avenue, Park Place Building, Suite 1700, Seattle, WA 98101, Phone (206) 553-7342, fax (206) 553-7066, to receive comments and testimony from small business owners, small government entities, and small non-profit organizations concerning the regulatory enforcement and compliance actions taken by federal agencies.

Anyone wishing to attend or to make a presentation must contact Julie J. McFarlane in writing or by fax, in order to be put on the agenda. Julie J. McFarlane, U.S. Small Business Administration, Seattle District Office, 1200 Sixth Avenue, Park Place Building, Suite 1700, Seattle, WA 98101, Phone (206) 553-7342, fax (206) 553-7066, e-mail: Julie.mcfarlane@sba.gov.

For more information, see our Web site at www.sba.gov/ombudsman.

Dated: March 19, 2002.
Michael L. Barrera,
National Ombudsman.

[FR Doc. 02-7151 Filed 3-25-02; 8:45 am]

BILLING CODE 8025-01-P